FEDERAL HOUSING FINANCE AGENCY

[No. 2017-N-10]

Proposed Collection; Comment Request

AGENCY: Federal Housing Finance Agency.

ACTION: 30-Day notice of submission of information collection for approval from Office of Management and Budget.

SUMMARY: In accordance with the requirements of the Paperwork Reduction Act of 1995 (PRA), the Federal Housing Finance Agency (FHFA or the Agency) is seeking public comments concerning an information collection known as “Federal Home Loan Bank Directors,” which has been assigned control number 2590-0006 by the Office of Management and Budget (OMB). FHFA intends to submit the information collection to OMB for review and approval of a three-year extension of the control number, which is due to expire on December 31, 2017.

DATES: Interested persons may submit comments on or before January 22, 2018.

ADDRESSES: Submit comments to the Office of Information and Regulatory Affairs of the Office of Management and Budget, Attention: Desk Officer for the Federal Housing Finance Agency, Washington, DC 20503, Fax: (202) 395-3047, Email: OIRA_submission@omb.eop.gov. Please also submit comments to FHFA, identified by “Proposed Collection; Comment Request: `Federal Home Loan Bank Directors, (No. 2017-N-10)'” by any of the following methods:

• Agency Website: www.fhfa.gov/open-for-comment-or-input.

• Federal eRulemaking Portal: http://www.regulations.gov. Follow the instructions for submitting comments. If you submit your comment to the Federal eRulemaking Portal, please also send it by email to FHFA at RegComments@fhfa.gov to ensure timely receipt by the agency.

• Mail/Hand Delivery: Federal Housing Finance Agency, Eighth Floor, 400 Seventh Street SW, Washington, DC 20219, ATTENTION: Proposed Collection; Comment Request: “Federal Home Loan Bank Directors, (No. 2017-N-10)”.

We will post all public comments we receive without change, including any personal information you provide, such as your name and address, email address, and telephone number, on the FHFA website at http://www.fhfa.gov. In addition, copies of all comments received will be available for examination by the public through the electronic comment docket for this PRA Notice also located on the FHFA website.

FOR FURTHER INFORMATION CONTACT: Patricia Sweeney, Senior Management Analyst, Division of Bank Regulation, by email at Patricia.Sweeney@fhfa.gov or by telephone at (202) 649-3311; or Eric Raudenbush, Associate General Counsel, Eric.Raudenbush@fhfa.gov, (202) 649-3084 (these are not toll-free numbers); Federal Housing Finance Agency, 400 Seventh Street SW, Washington, DC 20219. The Telecommunications Device for the Hearing Impaired is (800) 877-8339.

SUPPLEMENTARY INFORMATION:

A. Need for and Use of the Information Collection

Section 7 of the Federal Home Loan Bank Act (Bank Act) vests the management of each Federal Home Loan Bank (Bank) in its board of directors.¹ As required by section 7, each Bank's board comprises two types of directors: (1) Member directors, who are drawn from the officers and directors of member institutions located in the Bank's district and who are elected to represent members in a particular state in that district; and (2) independent directors, who are unaffiliated with any of the Bank's member institutions, but who reside in the Bank's district and are elected on an at-large basis.² Both types of directors serve four-year terms, which are staggered so that approximately one-quarter of a Bank's total directorships are up for election every year.³ Section 7 and FHFA's implementing regulation, codified at 12 CFR part 1261, establish the eligibility requirements for both types of Bank directors and the professional qualifications for independent directors, and set forth the procedures for their election.

¹ See 12 U.S.C. 1427(a)(1).

² See 12 U.S.C. 1427(b) and (d).

³ See 12 U.S.C. 1427(d).

Part 1261 of the regulations requires that each Bank administer its own annual director election process. As part of this process, a Bank must require each nominee for both types of directorship, including any incumbent that may be a candidate for re-election, to complete and return to the Bank a form that solicits information about the candidate's statutory eligibility to serve and, in the case of independent director candidates, about his or her professional qualifications for the directorship being sought.⁴ Specifically, member director candidates are required to complete the Federal Home Loan Bank Member Director Eligibility Certification Form (Member Director Eligibility Certification Form), while independent director candidates must complete the Federal Home Loan Bank Independent Director Application Form (Independent Director Application Form).

⁴ See 12 CFR 1261.7(c) and (f); 12 CFR 1261.14(b).

Each Bank must also require all of its incumbent directors to certify annually that they continue to meet all eligibility requirements.⁵ Member directors do this by completing the Member Director Eligibility Certification Form again every year, while independent directors complete the abbreviated Federal Home Loan Bank Independent Director Annual Certification Form (Independent Director Annual Certification Form) to certify their ongoing eligibility.

⁵ See 12 CFR 1261.12.

The Banks use the information collection contained in the Independent Director Application Form and part 1261 to determine whether individuals who wish to stand for election or re-election as independent directors satisfy the statutory eligibility requirements and possess the professional qualifications required under the statute and regulations. Only individuals meeting those eligibility requirements and qualifications may serve as an independent director.⁶ On an annual basis, the Banks use the information collection contained in the Independent Director Annual Certification Form and part 1261 to determine whether their incumbent independent directors continue to meet the statutory eligibility requirements.

⁶ See 12 U.S.C. 1427(a)(3).

The Banks use the information collection contained in the Member Director Eligibility Certification Form and part 1261 to determine whether individuals who wish to stand for election or re-election as member directors satisfy the statutory eligibility requirements. Only individuals meeting these requirements may serve as a member director.⁷ On an annual basis, the Banks also use the information collection contained in the Member Director Eligibility Certification Form and part 1261 to determine whether their incumbent member directors continue to meet the statutory eligibility requirements.

⁷ See 12 U.S.C. 1427(a)(3) and (b)(1).

The OMB control number for this information collection is 2590-0006 and the current PRA clearance expires on December 31, 2017. The likely respondents are individuals who are prospective and incumbent Bank directors. The three Bank director forms that FHFA will be submitting to OMB for review, copies of which appear at the end of this notice, are substantively identical to those that are currently approved under the PRA. However, FHFA is considering major revisions to each of the forms and expects to publish another set of PRA notices regarding the revised forms and to submit the revised forms to OMB for review and clearance under the PRA in the near future.

B. Burden Estimate

FHFA estimates the total annual hour burden imposed upon respondents by the three Bank director forms comprising this information collection to be 145 hours (37 hours + 75 hours + 33 hours = 145 hours, as detailed below).

The Agency estimates the total annual hour burden on all member director candidates and incumbent member directors associated with review and completion of the Member Director Eligibility Certification Form to be 37 hours. This includes a total annual average of 68 member director candidates, with 1 response per individual taking an average of 15 minutes (.25 hours) (68 respondents × .25 hours = 17 hours). It also includes a total annual average of 80 incumbent member directors, with 1 response per individual taking an average of 15 minutes (.25 hours) (80 individuals × .25 hours = 20 hours).

The Agency estimates the total annual hour burden on all independent director candidates associated with review and completion of the Independent Director Application Form to be 75 hours. This includes a total annual average of 25 independent director candidates, with 1 response per individual taking an average of 3 hours (25 individuals × 3 hours = 75 hours).

The Agency estimates the total annual hour burden on all incumbent independent directors associated with review and completion of the Independent Director Annual Certification Form to be 33 hours. This includes a total annual average of 66 incumbent independent directors, with 1 response per individual taking an average of 30 minutes (.5 hours) (66 individuals × .5 hours = 33 hours).

C. Comments Request

In accordance with the requirements of 5 CFR 1320.8(d), FHFA published a request for public comments regarding this information collection in the Federal Register on October 12, 2017.⁸ The 60-day comment period closed on December 11, 2017. FHFA received two comments, neither of which addressed any aspect of this information collection or the PRA.

⁸ See 82 FR 47510 (Oct. 12, 2017).

In accordance with the requirements of 5 CFR 1320.10(a), FHFA is publishing this second notice to request comments regarding the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: December 19, 2017.
Kevin Winkler,
Chief Information Officer, Federal Housing Finance Agency.

BILLING CODE 8070-01-P

[FR Doc. 2017-27629 Filed 12-21-17; 8:45 am]

BILLING CODE 8070-01-C